DEPARTMENT OF COMMERCE

International Trade Administration

[C-475-825]

Stainless Steel Sheet & Strip in Coils From Italy; Extension of Preliminary and Final Results of Full Sunset Review of Countervailing Duty Order

AGENCY: Import Administration, International Trade Administration, Department of Commerce.

ACTION: Notice of Extension of Time Limit for the Preliminary and Final Results of Full Sunset Review of Countervailing Duty Order: Stainless Steel Sheet & Strip in Coils from Italy.

SUMMARY: The Department of Commerce (“the Department”) is extending the time limit for its preliminary and final results in the full sunset review of the countervailing duty order on stainless steel sheet & strip in coils (“SSSS”) from Italy.¹ The Department intends to issue preliminary results of this sunset review on or about December 20, 2004. In addition, the Department intends to issue its final results of this review on or about April 27, 2005 (120 days after the date of publication in the Federal Register of the preliminary results).

¹ The Department normally will issue its preliminary results in a full sunset review not later than 110 days after the date of publication in the Federal Register of the notice of initiation. However, if the Secretary determines that a full sunset review is extraordinarily complicated under section 751(c)(5)(C) of the Tariff Act of 1930 (“the Act”), as amended, the Secretary may extend the period for issuing final results by not more than 90 days. See section 751(c)(5)(B) of the Act.

EFFECTIVE DATE: November 29, 2004.

FOR FURTHER INFORMATION CONTACT: Hilary E. Sadler, Esq., Import Administration, International Trade Administration, U.S. Department of Commerce, 14th Street & Constitution Avenue, NW., Washington, DC 20230; telephone: (202) 482-4340.

Extension of Preliminary and Final Determinations

In accordance with section 751(c)(5)(C)(ii) of the Tariff Act of 1930 (“Act”), the Department may treat sunset reviews as extraordinarily complicated if the issues are complex in order to extend the period of time under section 751(c)(5)(B) of the Act for making a sunset determination. As discussed below, the Department has determined that these reviews are extraordinarily complicated. On June 1, 2004, the Department initiated a sunset review of the countervailing duty order on SSSS from Italy. See Initiation of Five-Year (Sunset) Reviews, 69 FR 30874 (June 1, 2004). The Department, in this proceeding, determined that it would conduct a full (240-day) sunset review of this order based on responses from the domestic and respondent interested parties to the notice of initiation. The Department's preliminary results of this review were scheduled for November 22, 2004. However, several complicated issues have arisen regarding issues raised by the parties and the effect of the recent section 129 determination on this sunset review. See Notice of Implementation Under Section 129 of the Uruguay Round Agreements Act: Countervailing Measures Concerning Certain Steel Products from the European Communities, 68 FR 64858 (November 17, 2003).

Because of the numerous, complex issues in this proceeding, the Department will extend the deadlines. Thus, the Department intends to issue the preliminary results on or about December 20, 2004, and the final results on or about April 27, 2005, in accordance with section 751(c)(5)(B) and (C)(ii) of the Act.

Dated: November 22, 2004.
Joseph A. Spetrini,
Acting Assistant Secretary for Import Administration.

[FR Doc. E4-3359 Filed 11-26-04; 8:45 am]

BILLING CODE 3510-DS-P